DEPARTMENT OF TRANSPORTATION

Federal Highway Administration

Environmental Impact Statement: Providence, RI

AGENCY: Federal Highway Administration (FHWA), DOT.

ACTION: Notice of intent.

SUMMARY: The FHWA is issuing this notice to advise the public that an environmental impact statement will be prepared for a proposed transportation project in the city of Providence, Rhode Island.

FOR FURTHER INFORMATION CONTACT: Lucy Garliauskas, Division Administrator, Federal Highway Administration, 380 Westminster Mall, Room 547, Providence, Rhode Island 02903, Telephone: (401) 528-4541, OR Kazem Farhoumand, P.E., Deputy Chief Engineer, Rhode Island Department of Transportation, 2 Capitol Hill, Room 236, Providence, Rhode Island 02903, Telephone: (401) 222-2023, Extension 4020.

SUPPLEMENTARY INFORMATION: The FHWA, in cooperation with the Rhode Island Department of Transportation, will prepare an Environmental Impact Statement (EIS) on a proposal to improve the US Route 6 / State Route 10 interchange in Providence, Rhode Island. The proposed project would involve the rehabilitation, reconstruction or replacement of U.S. Route 6 and State Route 10 for a distance of approximately one mile each.

The EIS will investigate the environmental and socioeconomic impacts of various routing options to improve the interchange considered necessary to address the deterioration of the existing structures and substandard geometry. Preliminary studies undertaken to date have identified the following options to be considered for further evaluations. The options under review include (1) taking no action; (2) rehabilitating the existing bridges; (3) replacing all components of the existing bridges on current location; (4) reconstructing the interchange on new location, construction of new bridges, and completing all movements of the interchange.

A scoping meeting to discuss the potential environmental impacts will be held at 10 a.m. on Wednesday, June 16, 2004, at Rhode Island Department of Administration, One Capitol Hill, Providence, Rhode Island 02903 in Conference Room A on the second floor. Written comments received within 30 days of the scoping meeting will be incorporated into the record.

In addition to the scoping meeting, public participation will continue throughout the EIS process. Public workshops will be held in Providence, and potentially in other affected communities, to discuss the proposed Environmental Impact Statement including all project options and issues. Written Comments will be incorporated into this NEPA scoping process.

In addition, a formal public hearing will be held to receive comments regarding the proposed Environmental Impact Statement. Public notice will be given of the time and place of the public hearing. The draft EIS will be available for public and agency review and comment prior to the public hearing.

Comments and suggestions regarding this proposed action and the EIS are requested from all interested parties and should be directed to the Rhode Island Department of Transportation, 2 Capitol Hill, Room 231-D, Providence, Rhode Island 02903.

(Catalog of Federal Domestic Assistance Program Number 20.205, Highway Planning and Construction. The regulations implementing Executive Order 12372 regarding intergovernmental consultation on Federal programs and activities apply to this program.)

Issued on: May 7, 2004.
Lucy Garliauskas,
Division Administrator, Federal Highway Administration, Providence, Rhode Island.

[FR Doc. 04-10879 Filed 5-12-04; 8:45 am]

BILLING CODE 4910-22-M